DEPARTMENT OF HEALTH AND HUMAN SERVICES

National Institutes of Health

Eunice Kennedy Shriver National Institute of Child Health & Human Development; Amended Notice of Meeting

Notice is hereby given of a change in the meeting of the Population Sciences Subcommittee, which was published in the Federal Register on February 28, 2019, 84 FR 6808.

The meeting date has changed from a two-day meeting on November 14th and November 15th, 2019 to a one-day meeting on November 14th, 2019. The meeting is closed to the public.

Dated: November 7, 2019.
Ronald J. Livingston, Jr.,
Program Analyst, Office of Federal Advisory Committee Policy.

[FR Doc. 2019-24675 Filed 11-13-19; 8:45 am]

BILLING CODE 4140-01-P